SECURITIES AND EXCHANGE COMMISSION

[Release No. 34-44846; File No. 4-430]

Order Extending the Deadline for the American Stock Exchange LLC, the Boston Stock Exchange, Inc., the Chicago Board Options Exchange, Inc., the Chicago Stock Exchange, Inc., the Cincinnati Stock Exchange, the International Securities Exchange, LLC, the National Association of Securities Dealers, Inc., the New York Stock Exchange, Inc., the Pacific Exchange, Inc., and the Philadelphia Stock Exchange, Inc. to Submit Rule Filings Concerning the Implementation of Decimal Pricing in Equity Securities and Options Pursuant to Section 11A(a)(3)(B) of the Securities Exchange Act of 1934

September 25, 2001.

Notice is hereby given that, pursuant to Section 11A(a)(3)(B) of the Securities Exchange Act of 1934 (“Exchange Act”),¹ the Securities and Exchange Commission (“Commission”) modifies its May 22, 2001 Order ² to the American Stock Exchange LLC, the Boston Stock Exchange, Inc., the Chicago Board Options Exchange, Inc., the Chicago Stock Exchange, Inc., the Cincinnati Stock Exchange, the International Securities Exchange, LLC, the National Association of Securities Dealers, Inc., the New York Stock Exchange, Inc., the Pacific Exchange, Inc., and the Philadelphia Stock Exchange, Inc. (collectively the “Participants”) to extend the deadline set forth in the May 22, 2001 Order that requires the Participants to submit rule filings to establish the minimum price variation (“MPV”) in each market for quoting equity securities and options by November 5, 2001.

¹ Section 11A(a)(3)(B) authorizes the Commission, in furtherance of its statutory directive to facilitate the establishment of a national market system, by rule or order, “to authorize or require self-regulatory organizations to act jointly with respect to matters as to which they share authority under [the Act] in planning, developing, operating or regulating a national market system (or a subsystem thereof) or one or more facilities thereof.” 15 U.S.C. 78k-1(a)(3)(B).

² Securities Act Release No. 44336 (May 22, 2001), 66 FR 29368 (May 30, 2001).

The Commission's May 22, 2001 Order amended a prior June 8, 2000 Order ³ that had established the framework for the Participants to convert their quotation prices in equity securities and options from fractions to decimals. The May 22, 2001 Order extended the deadline for the Participants to submit studies regarding the impact of decimal pricing on systems capacity, liquidity and trading behavior, including an analysis of whether there should be a uniform price increment for securities, from June 8, 2001 to September 10, 2001. The Order also extended the deadline for the Participants to submit the rule filings that would individually establish an MPV for each market from July 9, 2001 to November 5, 2001.

³ Securities Act Release No. 42914 (June 8, 2001), 65 FR 38010 (June 19, 2000).

In view of the market disruption caused by the attacks of September 11, 2001, the Commission believes that it is necessary and appropriate to extend the deadline set forth in the May 22, 2001 Order for the Participants to submit their rule filings. The Commission believes that such an extension is necessary to give the Participants adequate time to thoroughly analyze the important investor protection and market integrity issues that need to be addressed in order to preserve the benefits of decimalization.

Therefore, It Is Ordered, pursuant to Section 11A(a)(3)(B) of the Exchange Act,⁴ that the Participants shall submit their rule filings pursuant to Section 19(b)(2) of the Exchange Act no later than January 14, 2002. All other aspects of the Commission's Orders of May 22, 2001 and June 8, 2000 remain in effect until otherwise ordered by the Commission.

⁴ 15 U.S.C. 78K-1(a)(3)(B).

By the Commission.
Margaret H. McFarland,
Deputy Secretary.

[FR Doc. 01-24471 Filed 9-28-01; 8:45 am]

BILLING CODE 8010-01-P